DEPARTMENT OF COMMERCE

Foreign-Trade Zones Board

[Docket 22-2010]

Foreign-Trade Zone 26—Atlanta, Georgia, Application for Expansion and Reorganization under Alternative Site Framework

An application has been submitted to the Foreign-Trade Zones (FTZ) Board (the Board) by the Georgia Foreign-Trade Zone, Inc. (GFTZ), grantee of FTZ 26, requesting authority to expand the zone and reorganize under the alternative site framework (ASF) adopted by the Board (74 FR 1170, 01/12/09; correction 74 FR 3987, 01/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the provisions of the Foreign-Trade Zones Act, as amended (19 U.S.C. 81a-81u), and the regulations of the Board (15 CFR part 400). It was formally filed on March 25, 2010.

The grantee's proposed service area under the ASF would include the following counties in Georgia: Haralson, Paulding, Polk, Bartow, Floyd, Chattooga, Gordon, Pickens, Gilmer, Fannin, Murray, Whitfield, Catoosa, Walker, Dade, Forsyth, Dawson, Hall, Lumpkin, Union, White, Habersham, Banks, Franklin (in part), Cherokee, Gwinnett, Fulton, Clayton, Fayette, Henry, Cobb, Douglas, DeKalb, Rockdale, Spalding, Troup, Coweta, Carroll, Heard, Meriwether, Pike, Lamar, Butts, Upson, Newton, Jasper, Morgan, Walton, Barrow, Oconee, Clarke, Greene, Oglethorpe, Madison, Jackson, Monroe, Bibb, Putnam, Jones, Baldwin, Crawford, Peach, Wilkinson (in part), Twiggs (in part), Houston (in part), Muscogee, Harris, Talbot, Taylor, Marion (in part) and Richmond. If approved, the grantee would be able to serve sites throughout the service area based on companies' needs for FTZ designation. The proposed service area is adjacent to or within the Atlanta Customs and Border Protection port of entry with the exception of Richmond County, which is adjacent to the Colombia, South Carolina Customs and Border Protection port of entry.

FTZ 26 was approved by the Board on January 17, 1977 (Board Order 115, 42 FR 4186, 01/24/77); reorganized on April 18, 1988 (Board Order 381, 53 FR 15254, 04/28/88); and, expanded on April 29, 1996 (Board Order 820, 61 FR 21156, 05/09/96), on March 19, 1999 (Board Order 1033, 64 FR 16421, 4/5/99, on June 21, 2000 (Board Order 1105, 65 FR 39865, 6/28/00), on July 8, 2005 (Board Order 1401, 70 FR 41201, 7/18/05), on August 7, 2009 (Board Order 1638, 74 FR 42052, 8/20/09) and on March 12, 2010 (Board Order 1670). The general-purpose zone currently consists of the following sites: Site 1 (287 acres) -- adjacent to the Hartsfield-Jackson Atlanta International Airport in Clayton and Fulton Counties including jet fuel storage and distribution facilities and including 2 acres located at 561 Airport Parkway, Atlanta (expires 1/31/12); Site 2 (1,436 acres) -- Peachtree City Industrial Park, Highway 74 South, Peachtree City (Fayette County); Site 3 (85 acres) -- Canton-Cherokee County Business and Industrial Park, Brown Industrial Boulevard, Canton (Cherokee County); Site 4 (1,152 acres) -- within the 2,124-acre Muscogee Technology Park, located at the intersection of Georgia Highway 22 and State Route 80, Columbus (Muscogee County); Site 5 (49 acres) -- at the Corporate Ridge/Columbus East Industrial Park, located at the intersection of Schatulga Road and Cargo Drive, Columbus (Muscogee County); Site 6 (394 acres) -- within the 411-acre Green Valley Industrial Park, located at the intersection of Green Valley Road and State Route 16, Griffin (Spalding County); Site 7 (64 acres) -- at the Hudson Industrial Park, located at the intersections of Hudson Industrial Drive, Green Valley Road and Futral Road, Griffin (Spalding County); Site 9 (321 acres) -- at the Hamilton Mill Business Center, located at the intersection of Hamilton Mill Road and Interstate 985, Buford (Gwinnett County); Site 10 (212 acres) -- at the ProLogis Park Greenwood, located just west of Interstate 75 at the Georgia State Highway 155 ``diamond'' interchange, McDonough (Henry County); Site 11 (1,544 acres) -- West Point Economic Development, located at the intersection of Interstate 85 and Webb Road, West Point (Troup County); Site 12 (241 acres) -- within the 1,800-acre Callaway South Industrial Park, located at Pegasus Parkway and South Loop Extension off of Interstate 85, LaGrange (Troup County); Site 13 (184 acres) -- within the 541-acre Sofkee Industrial Park, 5898 Hawkinsville Road, Macon (Bibb County); Site 14 (230 acres) -- Airport East Industrial Park, 8222 Hawkinsville Road, Macon (Bibb County); Site 15 (207 acres) -- within the 715-acre Twiggs County Industrial Park, located at Interstate 16 and State Route 96, Jeffersonville (Twiggs County); Site 16 (308 acres) -- Meridian 75 Logistics Center, located at Interstate 75 and Rumble Road, Forsyth (Monroe County); Site 17 (193 acres) -- Majestic Airport Center III, located at Interstate 85 and Jonesboro Road (Highway 138), Union City (Fulton County); Site 18 (195 acres) -- South Fulton Parkway Corporate Center, located at South Fulton Parkway and Derrick Road, Union City (Fulton County); and, Site 19 (7 acres) -- located at Southpoint Business Park, Building B, Forest Park (Fulton County). Site 8 has expired. Sites 11-17 are subject to a sunset provision that would terminate authority on August 31, 2014, and Site 18 is subject to a sunset provision that would terminate authority on March 31, 2015, where no activity has occurred under FTZ procedures before those dates.

The applicant is requesting to include Sites 1-18 as “magnet” sites. The applicant is also requesting to include Site 19 as a “usage-driven” site.

In accordance with the Board's regulations, Kathleen Boyce of the FTZ staff is designated examiner to evaluate and analyze the facts and information presented in the application and case record and to report findings and recommendations to the Board.

Public comment is invited from interested parties. Submissions (original and 3 copies) shall be addressed to the Board's Executive Secretary at the address listed below. The closing period for their receipt is June 4, 2010. Rebuttal comments in response to material submitted during the foregoing period may be submitted during the subsequent 15-day period (to June 21, 2010).

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz. For further information, contact Kathleen Boyce at Kathleen.Boyce@trade.gov or (202) 482-1346.

Dated: March 25, 2010.
Andrew McGilvray,
Executive Secretary.

[FR Doc. 2010-7669 Filed 4-2-10; 8:45 am]

BILLING CODE 3510-DS-S